DEPARTMENT OF AGRICULTURE

Forest Service

Siskiyou Resource Advisory Committee

AGENCY: Forest Service, USDA.

ACTION: Notice of meeting.

SUMMARY: The Siskiyou Resource Advisory Committee (RAC) will meet at 10 a.m. on Thursday, June 25, 2002 and will conclude at approximately 3 p.m. The meeting will be held at the Cave Junction City Hall, 222 Lister Street, Cave Junction, Oregon 97523. The agenda for June 25 meeting includes: (1) Establishing selection criteria and a process to recommend future projects; (2) agreement on what kind of projects the Siskiyou RAC would like to review; and (3) public forum. The public forum is scheduled from 2 to 2:30 p.m. and will be limited to 3-4 minutes for individual presentations (depending on the number of presenters). Written comments are encouraged, particularly if the material cannot be presented within the time limits for the public forum. Written comments may be submitted prior to the June 25th meeting by sending them to the Designated Federal Official Thomas K. Reilly at the address given below.

FOR FURTHER INFORMATION CONTACT: Designated Federal Official Thomas K. Reilly; Acting Rogue and Siskiyou National Forests Supervisor; P.O. Box 520, Medford, Oregon 97501; (541) 858-2200.

Dated: May 22, 2002.
Thomas K. Reilly,
Acting Forest Supervisor.

[FR Doc. 02-13636 Filed 5-30-02; 8:45 am]

BILLING CODE 3410-11-M